DEPARTMENT OF AGRICULTURE

Food Safety and Inspection Service

[Docket No. FSIS-2017-0020]

Availability of FSIS Guidance for Importing Meat, Poultry, and Egg Products Into the United States

AGENCY: Food Safety and Inspection Service, USDA.

ACTION: Notice of availability and request for comments.

SUMMARY: The Food Safety and Inspection Service (FSIS) is announcing the availability of and requesting comment on guidance for importing meat, poultry, and egg products into the United States. This guidance is intended to help U.S. importers, customs brokers, official import inspection establishments, egg products plants, and other interested parties understand and comply with FSIS import requirements.

DATES: Submit comments on or before September 5, 2017.

ADDRESSES: A downloadable version of the guidance is available to view and print at http://www.fsis.usda.gov/Regulations_&_Policies/Compliance_Guides_Index/index.asp. No hard copies of the compliance guideline have been published.

FSIS invites interested persons to submit comments on issues discussed and outlined in this notice. Only comments addressing the scope of this notice will be considered.

Comments may be submitted by one of the following methods:

Federal eRulemaking Portal: This Web site provides the ability to type short comments directly into the comment field on this Web page or attach a file for lengthier comments. Go to http://www.regulations.gov/. Follow the on-line instructions at that site for submitting comments.

Mail, CD-ROMs: Send to Docket Clerk, U.S. Department of Agriculture, Food Safety and Inspection Service, Patriots Plaza 3, 1400 Independence Avenue SW., Mailstop 3782, Room 8-163B, Washington, DC 20250-3700.

Hand- or courier-delivered submittals: Deliver to Patriots Plaza 3, 355 E. Street SW., Room 8-163A, Washington, DC 20250-3700.

Instructions: All items submitted by mail or electronic mail must include the Agency name and docket number FSIS-2017-0020. Comments received in response to this docket will be made available for public inspection and posted without change, including any personal information, to http://www.regulations.gov.

Docket: For access to background documents or to comments received, go to the FSIS Docket Room at Patriots Plaza 3, 355 E. Street SW., Room 164-A, Washington, DC 20250-3700 between 8:00 a.m. and 4:30 p.m., Monday through Friday.

FOR FURTHER INFORMATION CONTACT: Roberta Wagner, Assistant Administrator, Office of Policy and Program Development; Telephone: (202) 205-0495, or by Fax: (202) 720-2025.

SUPPLEMENTARY INFORMATION:

Background

The U.S. Department of Agriculture's (USDA) Food Safety and Inspection Service (FSIS) is the public health regulatory agency responsible for ensuring that domestic and imported meat, poultry, and egg products are safe, wholesome, and correctly labeled and packaged. FSIS inspects imported meat, poultry, and egg products under the authority of the Federal Meat Inspection Act (FMIA) (21 U.S.C. 601 et seq.) and the Poultry Products Inspection Act (PPIA) (21 U.S.C. 451 et seq.), and the Egg Products Inspection Act (EPIA) (15 U.S.C. 1031 et seq.). Imported meat, poultry, and egg products must originate from eligible countries and from establishments or plants that are certified to export to the United States (21 U.S.C. 620, 466 and 1046). A country becomes eligible following an equivalence determination process completed by FSIS in coordination with the country's central competent authority (CCA). Foreign establishments or plants become eligible when the CCA certifies to FSIS that the establishments or plants meet requirements that are equivalent to FSIS requirements. All imported shipments of meat, poultry, and egg products must be presented to FSIS for inspection, with certain exceptions, as detailed in the guidance (e.g., meat, poultry, or dried egg products shipment that does not exceed 50 pounds, for personal consumption only). This guidance summarizes existing requirements and best practices for complying with those requirements. FSIS encourages interested parties (e.g., U.S. importers, brokers, official import inspection establishments, and egg products plants) to follow this guidance. This guidance represents current FSIS thinking, and FSIS will update it as necessary to reflect comments received and any additional information that becomes available. FSIS is seeking comments on this guidance as part of its efforts to continuously assess and improve the effectiveness of policy documents.

USDA Nondiscrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410.

Fax: (202) 690-7442.

Email: program.intake@usda.gov. Persons with disabilities who require alternative means for communication (Braille, large print, audiotape, etc.) should contact USDA's TARGET Center at (202) 720-2600 (voice and TDD).

Additional Public Notification

FSIS will announce this notice online through the FSIS Web page located at http://www.fsis.usda.gov/federal-register.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/subscribe. Options range from recalls to export information to regulations, directives, and notices. Customers can add or delete subscriptions themselves, and have the option to password protect their accounts.

Done at Washington, DC, on: July 3, 2017.
Alfred V. Almanza,
Administrator.

[FR Doc. 2017-14287 Filed 7-6-17; 8:45 am]

BILLING CODE 3410-DM-P